DEPARTMENT OF TRANSPORTATION

Federal Aviation Administration

14 CFR Part 39

[Docket No. FAA-2013-0213; Directorate Identifier 2012-NM-207-AD; Amendment 39-17512; AD 2013-14-07]

RIN 2120-AA64

Airworthiness Directives; Learjet Inc. Airplanes

AGENCY: Federal Aviation Administration (FAA), DOT.

ACTION: Final rule.

SUMMARY: We are adopting a new airworthiness directive (AD) for certain Learjet Inc. Model 45 airplanes. This AD was prompted by a report that the fire barrier seal on the external baggage door does not seal the surrounding door structure due to incorrect positioning of the barrier. This AD requires modifying the fire seal on the baggage door, including doing inspections of the fire seal for correct contact and corrective action if necessary. We are issuing this AD to prevent improper sealing of the baggage door, which could increase the risk of an uncontained fire in the baggage compartment.

DATES: This AD is effective August 26, 2013.

The Director of the Federal Register approved the incorporation by reference of certain publications listed in the AD as of August 26, 2013.

ADDRESSES: For service information identified in this AD, contact Learjet, Inc., One Learjet Way, Wichita, KS 67209-2942; telephone 316-946-2000; fax 316-946-2220; email ac.ict@aero.bombardier.com; Internet http://www.bombardier.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Adam Neubauer, Aerospace Engineer, Airframe Branch, ACE-118W, FAA, Wichita Aircraft Certification Office, 1801 Airport Road, Room 100, Mid-Continent Airport, Wichita, Kansas 67209; phone: 316-946-4156; fax: 316-946-4107; email: adam.neubauer@faa.gov.

SUPPLEMENTARY INFORMATION:

Discussion

We issued a notice of proposed rulemaking (NPRM) to amend 14 CFR part 39 to include an AD that would apply to the specified products. The NPRM published in the Federal Register on March 27, 2013 (78 FR 18529). The NPRM proposed to require modifying the fire seal on the baggage door, including doing inspections of the fire seal for correct contact and corrective action if necessary.

Comments

We gave the public the opportunity to participate in developing this AD. We received no comments on the NPRM (78 FR 18529, March 27, 2013) or on the determination of the cost to the public.

Conclusion

We reviewed the relevant data and determined that air safety and the public interest require adopting this AD as proposed.

Costs of Compliance

We estimate that this AD affects 342 airplanes of U.S. registry.

We estimate the following costs to comply with this AD:

Estimated Costs
Action | Labor cost | Parts cost | Cost per product | Cost on U.S. operators
Modification | 11 work-hours × $85 per hour = $935 | $453 | $1,388 | $474,696

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-14-07 Learjet Inc.: Amendment 39-17512; Docket No. FAA-2013-0213; Directorate Identifier 2012-NM-207-AD.

(a) Effective Date

This AD is effective August 26, 2013.

(b) Affected ADs

None.

(c) Applicability

This AD applies to Learjet Model 45 airplanes, certificated in any category; serial numbers 45-002 through 45-380 inclusive, 45-382 through 45-396 inclusive, 45-398 through 45-405 inclusive, 45-2001 through 45-2114 inclusive, 45-2116, 45-2118, 45-2120, 45-2122, and 45-2124 through 45-2126 inclusive.

(d) Subject

Joint Aircraft System Component (JASC)/Air Transport Association (ATA) of America Code 25: Equipment/Furnishings.

(e) Unsafe Condition

This AD was prompted by a report that the fire barrier seal on the external baggage door does not seal the surrounding door structure due to incorrect positioning of the barrier. We are issuing this AD to prevent improper sealing of the baggage door, which could increase the risk of an uncontained fire in the baggage compartment.

(f) Compliance

Comply with this AD within the compliance times specified, unless already done.

(g) Modification

Within 300 flight hours after the effective date of this AD: Modify the fire seal on the baggage door, including doing general visual inspections of the fire seal for correct contact and all applicable corrective actions, in accordance with the Accomplishment Instructions of Bombardier Recommended Service Bulletin 40-25-25 or Bombardier Recommended Service Bulletin 45-25-35, both Revision 3, both dated February 6, 2012, as applicable. Do all applicable corrective actions before further flight.

(h) Credit for Previous Actions

This paragraph provides credit for the actions required by paragraph (g) of this AD, if those actions were performed before the effective date of this AD using the applicable service information specified in paragraphs (h)(1), (h)(2), (h)(3), and (h)(4) of this AD (which are not incorporated by reference in this AD):

(1) Bombardier Service Bulletin 40-25-25, Revision 1, dated August 23, 2010.

(2) Bombardier Service Bulletin 40-25-25, Revision 2, dated February 21, 2011.

(3) Bombardier Service Bulletin 45-25-35, Revision 1, dated August 23, 2010.

(4) Bombardier Service Bulletin 45-25-35, Revision 2, dated February 21, 2011.

(i) Parts Installation Limitation

As of the effective date of this AD, no person may install any part identified in paragraph 2.B., “Identification Table,” of Bombardier Recommended Service Bulletin 40-25-25 or Bombardier Recommended Service Bulletin 45-25-35, both Revision 3, both dated February 6, 2012, on any airplane, unless the actions specified in paragraph (g) of this AD are done concurrently with the installation.

(j) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(k) Related Information

(1) For more information about this AD, contact Adam Neubauer, Aerospace Engineer, Airframe Branch, ACE-118W, FAA, Wichita Aircraft Certification Office, 1801 Airport Road, Room 100, Mid-Continent Airport, Wichita, Kansas 67209; phone: 316-946-4156; fax: 316-946-4107; email: adam.neubauer@faa.gov.

(2) Service information identified in this AD that is not incorporated by reference in this AD may be obtained at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Bombardier Recommended Service Bulletin 40-25-25, Revision 3, dated February 6, 2012.

(ii) Bombardier Recommended Service Bulletin 45-25-35, Revision 3, dated February 6, 2012.

(3) For service information identified in this AD, contact Learjet, Inc., One Learjet Way, Wichita, KS 67209-2942; telephone 316-946-2000; fax 316-946-2220; email ac.ict@aero.bombardier.com; Internet http://www.bombardier.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 5, 2013.
Jeffrey E. Duven,
Acting Manager, Transport Airplane Directorate, Aircraft Certification Service.

[FR Doc. 2013-16929 Filed 7-19-13; 8:45 am]

BILLING CODE 4910-13-P